DEPARTMENT OF LABOR

Employment and Training Administration

Notice of Availability of Funds and Solicitation for Grant Applications for Senior Community Service Employment Program National Grants for Program Year 2012

AGENCY: Employment and Training Administration, Labor.

ACTION: Solicitation for Grant Applications (SGA). Funding Opportunity Number: SGA/DFA PY-11-04.

SUMMARY: The Employment and Training Administration (ETA), U.S. Department of Labor announces a grant competition for national grantees funded under the Senior Community Service Employment Program (SCSEP) authorized under title V of the Older Americans Act (OAA) as amended in 2006, Public Law 109-365. Approximately $346,000,000 in grant funds will be available for national grantees.

SCSEP grant funds are awarded to states and territories, and to competitively-chosen national grantees. This funding opportunity is for national grantees. SCSEP is the only Federally-sponsored employment and training program targeted specifically to unemployed low-income older individuals who want to enter or re-enter the workforce. Program participants receive work experience at local public or non-profit agencies and are paid the higher of the Federal, State, or local minimum wage, or the prevailing wage for similar employment, for approximately 20 hours per week while in community service and other job training (OAA Amendments § 502(b)(1)(J); 20 CFR 641.565(a)). The dual goals of the program are to promote useful opportunities in community service job training and to move SCSEP participants into unsubsidized employment, where appropriate.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is May 10, 2012.

FOR FURTHER INFORMATION CONTACT: Jeannette Flowers, 200 Constitution Avenue NW., Room N-4716, Washington, DC 20210; Telephone: 202-693-3322.

Signed March 5, 2012 in Washington, DC by.
B. Jai Johnson,
Grant Officer, Employment and Training Administration.

[FR Doc. 2012-5685 Filed 3-8-12; 8:45 a.m.]

BILLING CODE 4510-FN-P